DEPARTMENT OF ENERGY

Federal Energy Regulatory Commission

Docket Nos. ER02-199-000, ER02-218-000, ER02-219-000, ER02-220-000, ER02-221-000, ER02-222-000, ER02-223-000, ER02-224-000, ER02-225-000, ER02-226-000, ER02-227-000, ER02-228-000, ER02-229-000, ER02-230-000, ER02-498-000, ER02-788-000, EL02-50-000

Mississippi Power Company, Southern Company Services, Inc., Georgia Power Company, Alabama Power Company, Gulf Power Company, Southern Company Services, Inc.; Notice of Initiation of Proceeding and Refund Effective Date

January 31, 2002.

Take notice that on January 30, 2002, the Commission issued an order in the above-indicated dockets initiating a proceeding in Docket No. EL02-50-000 under section 206 of the Federal Power Act.

The refund effective date in Docket No. EL02-50-000 will be 60 days after publication of this notice in the Federal Register.

Linwood A. Watson, Jr.,
Acting Secretary.

[FR Doc. 02-2772 Filed 2-5-02; 8:45 am]

BILLING CODE 6717-01-P